DEPARTMENT OF COMMERCE

International Trade Administration

[A-357-812]

Honey from Argentina: Final Results of New Shipper Review

AGENCY: Import Administration, International Trade Administration, Department of Commerce.

SUMMARY: On November 24, 2006, the Department of Commerce (the Department) published the preliminary results of review in this proceeding. See Honey from Argentina: Preliminary Results of New Shipper Review, 71 FR 67850 (November 24, 2006) (Preliminary Results). This new shipper review covers one exporter, Patagonik S.A. (Patagonik) and its affiliated supplier, Colmenares Santa Rosa (CSR), of subject merchandise to the United States. The period of review (POR) is December 1, 2004, to December 31, 2005. The petitioners are the Sioux Honey Association and the American Honey Producers Association. Based on our analysis of comments received, the margin calculation for these final results does not differ from the preliminary results.

EFFECTIVE DATE: April 17, 2007.

FOR FURTHER INFORMATION CONTACT: David Cordell or Robert James, Office 7, Import Administration, International Trade Administration, U.S. Department of Commerce, 14th Street and Constitution Avenue, NW, Washington, DC 20230; telephone: (202) 482-0408 or (202) 482-0649, respectively.

SUPPLEMENTARY INFORMATION:

Background

On November 24, 2006, the Department published its Preliminary Results of this antidumping duty new shipper review of honey from Argentina. On December 15, 2006, the Federal Register published a correction notice due to typographical errors in the original preliminary results notice. See Corrections Honey From Argentina: Preliminary Results of New Shipper Review (Corrections Notice), 71 FR 75614 (December 15, 2006). Subsequent to publication of the Preliminary Results and the Corrections Notice, the Department issued an additional cost questionnaire on December 20, 2006, to which Patagonik responded on January 3, 2007. In response to the Department's invitation to comment on the preliminary results, petitioners submitted their case brief on January 8, 2007, and Patagonik submitted its rebuttal brief on January 16, 2007.¹ On January 31, 2007, the Department extended the final results until April 16, 2007. See Notice of Extension of Time Limit for Final Results of Antidumping Duty New Shipper Review: Honey from Argentina, 72 FR 4486 (January 31, 2007).

¹ In response to requests from petitioners and Patagonik, the Department extended the deadline for case briefs to January 8, 2006, and for rebuttal briefs to January 16, 2006.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (HTSUS). Although the HTSUS subheadings are provided for convenience and Customs purposes, the Department's written description of the merchandise under this order is dispositive.

Analysis of Comments Received

All issues raised in the case and rebuttal briefs by parties to this new shipper review are addressed in the “Issues and Decision Memorandum” (Decision Memorandum) from Stephen J. Claeys, Deputy Assistant Secretary for Import Administration, to David M. Spooner, Assistant Secretary for Import Administration. A list of issues addressed in the Decision Memorandum is appended to this notice. The Decision Memorandum is on file in the CRU and can be accessed directly on the web at http://www.ita.doc.gov/.

Changes Since the Preliminary Results

Based on our analysis of comments received, we have made no changes to our preliminary results.

Final Results of Review

We determine that the following dumping margins exist for the period December 1, 2004, through December 31, 2005.

Exporter | Weighted Average Margin (percentage)
Patagonik S.A. /Colmenares Santa Rosa S.R.L | 0.00

Assessment

The Department shall determine, and the CBP shall assess, antidumping duties on all appropriate entries. In accordance with 19 CFR 351.212(b)(1), we have calculated importer-specific assessment rates for the merchandise based on the ratio of the total amount of antidumping duties calculated for the examined sales made during the POR to the total customs value of the sales used to calculate those duties. The Department will issue appropriate ad valorem assessment instructions directly to CBP 15 days after publication of these final results of review. We will direct CBP to assess the resulting assessment rate against the entered customs values for the subject merchandise on each of the importer's entries during the POR.

The Department clarified its “automatic assessment” regulation on May 6, 2003 (68 FR 23954). This clarification will apply to entries of subject merchandise during the period of review produced by companies included in these final results of review for which the reviewed companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective upon publication of the final results of this new shipper review for all shipments of the subject merchandise entered, or withdrawn from warehouse, for consumption on or after the publication date, as provided for by section 751(a)(1) of the Tariff Act of 1930, as amended (the Tariff Act):

(1) the cash deposit for Patagonik/CSR will be the rate established in the final results of this new shipper review;

(2) for any previously reviewed or investigated company not listed above, the cash deposit rate will continue to be the company-specific rate published in the most recent period;

(3) the cash deposit rate for entries of subject merchandise exported/produced by Patagonik/CSR but not produced by Patagonik/CSR will continue to be the “all other's” rate of 30.24 percent or the rate applicable to the producer/exporter if so established; and

(4) if neither the exporter nor the manufacturer is a firm covered in this or any previous review conducted by the Department, the cash deposit rate will be the “all others” rate from the LTFV investigation (30.24 percent). See Notice of Antidumping Duty Order; Honey From Argentina, 66 FR 63672 (December 10, 2001). These deposit requirements shall remain in effect until publication of the final results of the next administrative review.

Notification to Interested Parties

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction. We are issuing and publishing this determination and notice in accordance with sections section 751(a)(1) and 777(i)(1) of the Tariff Act.

Dated: April 9, 2007.
David M. Spooner,
Assistant Secretary for Import Administration.

Appendix: Issues and Decision Memorandum

Comment 1. Bona Fide nature of the sale

Comment 2. Billing Adjustment

Comment 3. Averaging of Beekeeper Costs

Comment 4. Drum Costs

Comment 5. Feed Costs

Comment 6. Rent

Comment 7. Honey Collector's Salary

[FR Doc. E7-7288 Filed 4-16-07; 8:45 am]

BILLING CODE 3510-DS-S